DEPARTMENT OF JUSTICE

Antitrust Division

Notice Pursuant to the National Cooperative Research and Production Act of 1993—Aerospace Vehicle Systems Institute (“AVSI”) Cooperative

Notice is hereby given that, on February 20, 2004, pursuant to section 6(a) of the National Cooperative Research and Production Act of 1993, 15 U.S.C. 4301 et seq. (“the Act”), Aerospace Vehicle Systems Institute (“AVSI”) Cooperative has filed written notifications simultaneously with the Attorney General and the Federal Trade Commission disclosing changes in its membership and planned activities. The notifications were filed for the purpose of extending the Act's provisions limiting the recovery of antitrust plaintiffs to actual damages under specified circumstances. Specifically, the AVSI Cooperative intends to undertake the following joint research projects:

“Energy Harvesting and Structural Damping”—To determine the feasibility of using multifunctional carbon nanotube supercapacitors as a stand-alone system to harvest aero-elastic energy, dampen structural buffeting and provide structural elements.

“Modular Open Systems Approach Interoperability”—To develop an open systems approach for airborne systems such as avionics to allow greater interoperability through modular common interfaces and architectures. The goal is to reduce operational and support costs for these systems to enable increased investment in acquisition of new and/or technology-refreshed replacement systems.

“Validation and Verification of Advanced Flight Control Systems”—To validate and verify advanced nonlinear, adaptive and reconfigurable control strategies for manned and unmanned aircraft.

“Economic Analysis of Fuel and Infrastructure Options for Aircraft Fuel Cell Applications”—To investigate the economic feasibility of fuel type and fuel supply infrastructure options for aircraft fuel cell applications.

Furthermore, Textron Company, acting through its Cessna Aircraft Company, Wichita, KS, has withdrawn as a party to this venture. In addition, BAE Systems, acting through its BAE Systems Controls Division, a corporation in Rockville, MD; and Rockwell Collins, acting through its Air Transport Systems Division, Cedar Rapids, IA, have been added as parties to this venture.

No other changes have been made in either the membership or planned activities of the group research project. Membership in this group research project remains open, and the AVSI Cooperative intends to file additional written notification disclosing all changes in membership.

On November 18, 1998, the AVSI Cooperatives filed its original notification pursuant to section 6(a) of the Act. The Department of Justice published a notice in the Federal Register pursuant to section 6(b) of the Act on February 18, 1999 (64 FR 8123).

The last notification was filed with the Department on October 29, 2003. A notice was published in the Federal Register pursuant to section 6(b) of the Act on December 12, 2003 (68 FR 69422).

Dorothy B. Fountain,
Deputy Director of Operations, Antitrust Division.

[FR Doc. 04-6658 Filed 3-24-04; 8:45 am]

BILLING CODE 4410-11-M